FEDERAL ELECTION COMMISSION

Sunshine Act Meetings

TIME AND DATE: Thursday, December 12, 2024, 10:00 a.m.

PLACE: Hybrid meeting: 1050 First Street NE, Washington, DC (12TH Floor) and virtual.

Note: If you would like to virtually access the meeting, see the instructions below.

STATUS: This meeting will be open to the public. To access the meeting virtually, go to the Commission's website www.fec.gov and click on the banner to be taken to the meeting page.

MATTERS TO BE CONSIDERED:

Draft Advisory Opinion 2024-15: Unified Libertarians of Massachusetts

MUR 1604 (Brady Campaign to Prevent Gun Violence, et al): Recommendation to Relieve the Brady Campaign from a Remedial Measure in a Conciliation Agreement

REG 2024-06 (Request to Modify or Redact Contributor Info)—Draft Notice of Proposed Rulemaking

Draft Legislative Recommendations 2024

Sample LLC Donor Form

Recommendation That the Office of General Counsel Conduct a Review of the Agency's Regulations

Proposed Revisions to Directives 10 (Rules of Procedure of the Federal Election Commission Pursuant to 2 U.S.C. 437(c)(e)) and 17 (Circulation Authority; Agenda Deadline Procedures)

Election of Officers for 2025

Management and Administrative Matters

CONTACT PERSON FOR MORE INFORMATION: Judith Ingram, Press Officer, Telephone: (202) 694-1220.

Individuals who plan to attend in person and who require special assistance, such as sign language interpretation or other reasonable accommodations, should contact Laura E. Sinram, Secretary and Clerk, at (202) 694-1040 or secretary@fec.gov, at least 72 hours prior to the meeting date.

(Authority: Government in the Sunshine Act, 5 U.S.C. 552b)

Laura E. Sinram,
Secretary and Clerk of the Commission.

[FR Doc. 2024-28995 Filed 12-5-24; 4:15 pm]

BILLING CODE 6715-01-P